DEPARTMENT OF THE INTERIOR

National Park Service

[NPS-SERO-RTCA-25443; PPMPSPD1T.Y00000; PPSESERO10]

Wekiva River System Advisory Management Committee Notice of Public Meeting

AGENCY: National Park Service, Interior.

ACTION: Meeting notice.

SUMMARY: In accordance with the Federal Advisory Committee Act of 1972, the National Park Service (NPS) is hereby giving notice that the Wekiva River System Advisory Management Committee will meet as indicated below.

DATES: The Committee will meet: Tuesday, July 10, 2018; Tuesday, September 11, 2018; and Wednesday, November 7, 2018. All scheduled meetings will begin at 2:00 p.m. and will end by 4:00 p.m. (Eastern).

ADDRESSES: The July 10, 2018, meeting will be held in a conference room at 1014 Miami Springs Drive, Wekiva Island, Longwood, Florida 32779. The September 11, 2018, and November 7, 2018, meetings will be held in a conference room at 1800 Wekiwa Circle, Wekiwa Springs State Park, Apopka, Florida 32712.

FOR FURTHER INFORMATION CONTACT: Jaime Doubek-Racine, Community Planner and Designated Federal Officer, Rivers, Trails, and Conservation Assistance Program, Florida Field Office, Southeast Region, 5342 Clark Road, PMB #123, Sarasota, Florida 34233, telephone (941) 321-1810 or email jamie_doubek_rancine@nps.gov.

SUPPLEMENTARY INFORMATION: The Wekiva River System Advisory Management Committee was established under section 5 of Public Law 106-299 to assist in the development of the comprehensive management plan for the Wekiva River System and provide advice to the Secretary of the Interior in carrying out management responsibilities of the Secretary under the Wild and Scenic Rivers Act (16 U.S.C. 1271 et seq.).

Purpose of the Meeting: Each scheduled meeting will result in decisions and steps that advance the Wekiva River System Advisory Management Committee towards its objective of providing advice and recommendations concerning management of the Wekiva Wild and Scenic River. All meetings are open to the public.

Any member of the public may make and oral comment at the meeting or file with the Committee a written statement concerning any issues relating to the development of the comprehensive management plan for the Wekiva Wild and Scenic River. Written statements should be addressed to the Wekiva River System Advisory Management Committee, National Park Service, 5342 Clark Road, PMB #123, Sarasota, Florida 34233, or email jamie_doubek_rancine@nps.gov.

Public Disclosure of Comments: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-12510 Filed 6-8-18; 8:45 am]

BILLING CODE 4312-52-P